DEPARTMENT OF COMMERCE

International Trade Administration

[A-549-502]

Certain Welded Carbon Steel Pipes and Tubes from Thailand: Notice of Extension of Time Limit for Final Results of Antidumping Duty Administrative Review

AGENCY: Import Administration, International Trade Administration, Department of Commerce.

SUMMARY: The Department of Commerce (the Department) is extending the time limit for the final results of the 2002-2003 antidumping duty administrative review of the antidumping order on certain welded carbon steel pipes and tubes from Thailand until no later than October 5, 2004. This review covers the period March 1, 2002, through February 28, 2003. The extension is made pursuant to section 751(a)(3)(A) of the Tariff Act of 1930, as amended by the Uruguay Round Agreements Act (hereinafter, “the Act”).

EFFECTIVE DATE: August 10, 2004.

FOR FURTHER INFORMATION CONTACT: Javier Barrientos, Office of AD/CVD Enforcement 7, Import Administration, International Trade Administration, U.S. Department of Commerce, 14th Street and Constitution Avenue, N.W., Washington, D.C. 20230, telephone (202) 482-2243.

SUPPLEMENTARY INFORMATION:

Background

On March 11, 1986, the Department published in the Federal Register an antidumping duty order on circular welded carbon steel pipes and tubes from Thailand (51 FR 8341). On March 3, 2003, the Department published a notice of opportunity to request an administrative review of this order covering the period March 1, 2002, through February 28, 2003 (68 FR 9974). A timely request for an administrative review of the antidumping duty order, with respect to sales by Saha Thai Steel Company, Ltd. (“Saha Thai”) during the POR, was filed on behalf of two domestic producers, Allied Tube and Conduit Corporation and Wheatland Tube Company (collectively, “the petitioners”). The Department published a notice of initiation of this antidumping duty administrative review on April 21, 2003 (68 FR 19498).

Because the Department determined that it was not practicable to complete this review within the statutory time limits, we extended the time limit for the preliminary results of this review on November 7, 2003. See Certain Welded Carbon Steel Pipes and Tubes from Thailand: Extension of Time Limit for Preliminary Results of Antidumping Administrative Review, 69 FR 4113 (January 28, 2004). From December 9 through 17, 2003, the Department verified the sales and cost questionnaire responses of Saha Thai in Thailand. As a result, we extended the deadline for the preliminary results to March 30, 2004. The preliminary results of review were subsequently published in the Federal Register. See Certain Welded Carbon Steel Pipes and Tubes from Thailand: Notice of Preliminary Results of Antidumping Duty Administrative Review, 69 FR 18539 (April 8, 2004) (“Preliminary Results”).

Extension of Time Limits for Final Results

Under section 751(a)(3)(A) of the Act, the Department may extend the deadline for completion of an administrative review if it determines that it is not practicable to complete the review within the statutory time limit of 365 days. In the instant review, the Department has determined that it is not practicable to complete the review within the statutory time limit due to the need for analysis of certain complex issues, including the treatment of duty exemptions and foreign antidumping duties. Accordingly, in accordance with section 751(a)(3)(A) of the Act, the Department is extending the time limit for the final results to no later than October 5, 2004, which is 180 days from publication of the Preliminary Results.

This notice is issued and published in accordance with section 751(a)(3)(A) of the Act and section 351.213(h)(2) of the Department's regulations.

Dated: August 3, 2004.
Jeffrey A. May,
Deputy Assistant Secretaryfor Import Administration, Group I.

[FR Doc. 04-18262 Filed 8-9-04; 8:45 am]

BILLING CODE 3510-DS-S